SMALL BUSINESS ADMINISTRATION

[Declaration of Disaster #3500]

State of Alabama

As a result of the President's major disaster declaration on May 12, 2003, I find that Bibb, Blount, Calhoun, Cullman, DeKalb, Etowah, Jackson, Jefferson, Madison, Marshall, Morgan, Shelby, St. Clair, Talladega, Tuscaloosa and Walker Counties in the State of Alabama constitute a disaster area due to damages caused by severe storms, tornadoes, and flooding occurring on May 5, 2003 and continuing. Applications for loans for physical damage as a result of this disaster may be filed until the close of business on July 11, 2003 and for economic injury until the close of business on February 12, 2004 at the address listed below or other locally announced locations: U.S. Small Business Administration, Disaster Area 2 Office, One Baltimore Place, Suite 300, Atlanta, GA 30308.

In addition, applications for economic injury loans from small businesses located in the following contiguous counties may be filed until the specified date at the above location: Cherokee, Chilton, Clay, Cleburne, Coosa, Fayette, Greene, Hale, Lawrence, Limestone, Marion, Perry, Pickens and Winston in the State of Alabama; Chattooga, Dade and Walker counties in the State of Georgia; and Franklin, Lincoln and Marion counties in the State of Tennessee.

The interest rates are:

| Percent
For Physical Damage:
Homeowners with Credit Available Elsewhere | 5.625
Homeowners without Credit Available Elsewhere | 2.812
Businesses with Credit Available Elsewhere | 5.906
Businesses and Non-Profit Organizations without Credit Available Elsewhere | 2.953
Others (Including Non-Profit Organizations) with Credit Available Elsewhere | 5.500
For Economic Injury:
Businesses and Small Agricultural Cooperatives without Credit Available Elsewhere | 2.953

The number assigned to this disaster for physical damage is 350012. For economic injury the number is 9V2900 for Alabama; 9V3000 for Georgia; and 9V3100 for Tennessee.

(Catalog of Federal Domestic Assistance Program Nos. 59002 and 59008).
Dated: May 13. 2003.
Herbert L. Mitchell,
Associate Administrator for Disaster Assistance.

[FR Doc. 03-12471 Filed 5-16-03; 8:45 am]

BILLING CODE 8025-01-P